DEPARTMENT OF LABOR

Employment and Training Administration

[TA-W-65,860]

Manitowoc Tool and Machine, LLC, Manitowoc, WI; Notice of Termination of Investigation

Pursuant to Section 221 of the Trade Act of 1974, as amended, an investigation was initiated on April 28, 2009, in response to a petition filed by a one-stop operator on behalf of workers of Manitowoc Tool and Machine, LLC, Manitowoc, Wisconsin.

The petitioner has requested that the petition be withdrawn. Consequently, the investigation has been terminated.

Signed at Washington, DC, this 8th day of May 2009.
Linda G. Poole,
Certifying Officer, Division of Trade Adjustment Assistance.

[FR Doc. E9-13467 Filed 6-8-09; 8:45 am]

BILLING CODE 4510-FN-P